DEPARTMENT OF EDUCATION

[Docket No. ED-2019-ICCD-0012]

Agency Information Collection Activities; Submission to the Office of Management and Budget for Review and Approval; Comment Request; National Center for College Students With Disabilities (NCCSD) Database of Disability Services and Activities in Higher Education

AGENCY: Office of Postsecondary Education (OPE), Department of Education (ED).

ACTION: Notice.

SUMMARY: In accordance with the Paperwork Reduction Act of 1995, ED is proposing a new information collection.

DATES: Interested persons are invited to submit comments on or before May 17, 2019.

ADDRESSES: To access and review all the documents related to the information collection listed in this notice, please use http://www.regulations.gov by searching the Docket ID number ED-2019-ICCD-0012. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Shedita Alston, 202-453-7090.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Center for College Students with Disabilities (NCCSD) Database of Disability Services and Activities in Higher Education.

OMB Control Number: 1840-NEW.

Type of Review: A new information collection.

Respondents/Affected Public: State, Local, and Tribal Governments; Private Sector.

Total Estimated Number of Annual Responses: 4,583.

Total Estimated Number of Annual Burden Hours: 13,749.

Abstract: The National Center for College Students with Disabilities (NCCSD) at the Association on Higher Education and Disability (AHEAD) is authorized by Congress in the Higher Education Opportunity Act of 2008 (§ 777.4) and was established in 2016. The NCCSD College Disability Resource Database is designed to address a gap in information about services and accessibility for college students with disabilities, who make up 11% of the undergraduate population. Existing general information about colleges is available in the Department of Education's online College Navigator and College Affordability and Transparency Center, but the only information about students with disabilities in these databases is the percentage of students registered with campus disability services offices. At this time, there are no national or federal surveys or databases that provide systematic collection of information about campus-level disability-related services, access, and activities at colleges and universities in the United States. The NCCSD survey will ask all U.S. campuses to provide basic information about disability services, accessibility of campus, and disability-related activities that may affect inclusion and the campus climate. The data will be available to the public in an accessible and searchable database, to help prospective college students and their families make informed decisions during the college search process. Because the database will be public, researchers and policymakers will also be able to utilize the data to gather information about disability and higher education in systematic ways.

Dated: April 12, 2019.
Kate Mullan,
PRA Coordinator, Information Collection Clearance Program, Information Management Branch, Office of the Chief Information Officer.

[FR Doc. 2019-07670 Filed 4-16-19; 8:45 am]

BILLING CODE 4000-01-P